DEPARTMENT OF HEALTH AND HUMAN SERVICES

Administration for Children and Families

Statement of Organization, Functions, and Delegations of Authority

This notice amends Part K of the Statement of Organization, Functions, and Delegations of Authority of the Department of Health and Human Services (HHS), Administration for Children and Families (ACF) as follows: Chapter K, Administration for Children and Families, as last amended at 71 FR 59117-59123, dated October 6, 2006; Chapter KA, Office of the Assistant Secretary for Children and Families, as last amended at 72 FR 31072-31073, dated June 5, 2007; and Chapter KH, the Office of Family Assistance (OFA), as last amended at 71 FR 59117-59123, dated October 6, 2006. This reorganization will transfer the Child Care Bureau (KHJ) in its entirety, from the Office of Family Assistance (KH), and retitle it as the Office of Child Care (KV) reporting directly to the Assistant Secretary for Children and Families. It also establishes the Office of the Deputy Assistant Secretary and Inter-Departmental Liaison for Early Childhood Development. The changes are as follows:

I. Amend Chapter K, Administration for Children and Families, as follows:

A. Delete Section K.10 Organization, in its entirety and replace with the following:

K.10 Organization. The Administration for Children and Families (ACF) is a principal operating division of the Department of Health and Human Services (HHS). The Administration is headed by the Assistant Secretary for Children and Families, who reports directly to the Secretary. The Assistant Secretary also serves as the Director of Child Support Enforcement. In addition to the Assistant Secretary, the Administration consists of the Principal Deputy Assistant Secretary, the Deputy Assistant Secretary for Administration, the Deputy Assistant Secretary for Policy and External Affairs, the Deputy Assistant Secretary and Inter-Departmental Liaison for Early Childhood Development, and Staff and Program Offices. ACF is organized as follows:

Office of the Assistant Secretary for Children and Families (KA)

Office of the Deputy Assistant Secretary for Policy and External Affairs (KL)

Office of the Deputy Assistant Secretary for Administration (KP)

Administration on Children, Youth and Families (KB)

Administration on Developmental Disabilities (KC)

Administration for Native Americans (KE)

Office of Child Support Enforcement (KF)

Office of Community Services (KG)

Office of Family Assistance (KH)

Office of Regional Operations (KJ)

Office of Planning, Research and Evaluation (KM)

Office of Public Affairs (KN)

Office of Refugee Resettlement (KR)

Office of Legislative Affairs and Budget (KT)

Office of Head Start (KU)

Office of Child Care (KV)

II. Amend Chapter KA, Office of the Assistant Secretary, as follows:

A. Delete KA.10 Organization, in its entirety and replace with the following:

KA.10 Organization: The Office of the Assistant Secretary for Children and Families is headed by the Assistant Secretary for Children and Families who reports directly to the Secretary and consists of:

Office of the Assistant Secretary for Children and Families (KA)

President's Committee for People with Intellectual Disabilities Staff (KAD)

Executive Secretariat Office (KAF)

Office of Human Services Emergency Preparedness and Response (KAG)

Office of the Deputy Assistant Secretary and Inter-Departmental Liaison for Early Childhood Development (KAH)

B. Amend KA.20 Functions, add the following new paragraph:

KA.20 Functions E. Office of the Deputy Assistant Secretary and Inter-Departmental Liaison for Early Childhood Development (KAH): The Office of the Deputy Assistant Secretary and Inter-Departmental Liaison for Early Childhood Development is responsible for handling a variety of assignments requiring knowledge and expertise in advising the Assistant Secretary, ACF, in the formulation of policy views, positions, and implementation strategies related to early childhood programs and services under the purview of ACF. The incumbent will also serve as a key liaison and representative to the Department for early childhood development on behalf of the Assistant Secretary, ACF, and to other agencies across the government on behalf of the Department.

III. Amend Chapter KH, Office of Family Assistance, as follows:

A. Delete KH.00 Mission, in its entirety and replace with the following:

KH.00 Mission: The Office of Family Assistance (OFA) advises the Secretary, through the Assistant Secretary for Children and Families, on matters relating to the Temporary Assistance for Needy Families (TANF) program under title IV-A of the Social Security Act. This program provides temporary assistance and promotes economic self-sufficiency for families with children. The Office provides leadership direction and technical guidance, with ACF Regional Offices, to the States, Tribes, and Territories on the TANF program, the Native Employment Works program, and the Aid to the Aged, Blind and Disabled program in Guam, Puerto Rico and the Virgin Islands. The Office focuses efforts to increase economic independence and productivity for families. It develops legislative, regulatory and budgetary proposals; and identifies and implements operational planning objectives and initiatives related to the TANF program. It provides direction and guidance in the collection and dissemination of performance and other valuable data for these programs; reviews State and Tribal planning for administrative and operational improvement; assesses program performance, and recommends actions to improve effectiveness. It provides guidance, direction, and technical assistance to its discretionary grantees and monitors their progress.

B. Delete KH.10 Organization, in its entirety and replace with the following:

KH.10 Organization. The Office of Family Assistance is headed by a Director who reports to the Assistant Secretary for Children and Families. The Office is organized as follows:

Office of the Director (KHA)

TANF Bureau (KHB)

Division of State Policy (KHB1)

Division of State and Territory TANF Management and Technical Assistance (KHB2)

Division of Data Collection and Analysis (KHB3)

Division of Tribal TANF Management (KHB4)

TANF Bureau Regional Program Units (KHBDI-X)

C. KH.20 Functions, delete Paragraph A in its entirety and replace with the following:

A. Office of the Director (KHA): The Office of the Director is directly responsible to the Assistant Secretary for Children and Families for carrying out OFA's mission and providing direction, leadership, guidance, and general supervision to the principal components of OFA. The Deputy Director assists the director in carrying out the responsibilities for the Office. The Associate Director for the TANF Bureau reports to the OFA Director. The Office: (1) Provides public information services by responding to inquiries from the public and private sectors from both domestic and international entities via written and electronic communication; (2) coordinates and organizes the printing and distribution of policy and guidance documents and responds to Freedom of Information Act requests; (3) manages the formulation and execution of the budgets for OFA programs and for Federal administration; (4) serves as the focal point for operational and long-range planning; (5) functions as Executive Secretariat for OFA, including managing correspondence, correspondence systems, and electronic mail requests; and (6) provides management and administrative services and advice, by coordinating human resources activities, developing policy and procedures relating to these activities.

D. KH.20 Functions, delete Paragraph C. Child Care Bureau and subsequent paragraphs 1 through 4 in its entirety.

IV. Add Chapter KV, Office of Child Care.

A. Create KV.00 Mission, in its entirety:

KV.00 Mission. The Office of Child Care (OCC) advises the Assistant Secretary for Children and Families on matters relating to child care, early education programs, and school-age care programs, focusing on the twin goals of providing support for working families and improving the quality of child care to promote healthy development, school readiness, and school success for children. It has primary responsibility for the operation of child care programs authorized under the Child Care and Development Block Grant (CCDBG) Act and section 418 of the Social Security Act. It develops legislative, regulatory and budgetary proposals; identifies and implements operational planning objectives and initiatives related to child care; provides technical assistance and guidance to States, Territories, and Tribes regarding implementation of child care programs; and directs, manages, and oversees the progress of the Office's mission and activities. The OCC supports State, Tribal, and Territorial grantees to provide child care financial assistance to low-income families so that their children can access high quality care while they are at work or attending training and education. The OCC also works with grantees to develop comprehensive, cross-sector systems of quality improvement so that child care programs can improve overall quality and individual educators achieve higher levels of education and training. It provides leadership and coordination for child care issues within ACF, within HHS, and with relevant agencies across the Federal, State, local and Tribal governments, and non-governmental organizations at the Federal, State and local levels.

B. Create KV.10 Organization, in its entirety.

KV.10 Organization. The Office of Child Care is headed by a Director who reports to the Assistant Secretary for Children and Families. The Office is organized as follows:

Office of the Director (KVA)

Division of Technical Assistance (KVA1)

Division of Program Operations (KVA2)

Division of Policy (KVA3)

Office of Child Care Regional Program Units (KVADI-X)

C. Create KV.20 Function, in its entirety.

KV.20 Functions A. Office of the Director (KVA): The Office of Child Care has responsibility for: (1) Overseeing the operation of child care programs authorized under the Child Care and Development Block Grant (CCDBG) Act and section 418 of the Social Security Act; (2) developing legislative, regulatory, and budgetary proposals; (3) presenting operational planning objectives and initiatives related to child care, and overseeing the progress of approved activities; (4) providing leadership and coordination for child care within ACF and linkages with other agencies on child care issues, including agencies within HHS, relevant agencies across the Federal, State, local, and Tribal governments, and non-governmental organizations at the Federal, State, and local levels; and (5) overseeing the leadership, planning, and management of the Office's mission and activities.

The Office of the Director serves as the principal advisor to the Assistant Secretary for Children and Families on the administration of child care programs. The Office is directly responsible for carrying out OCC's mission and providing direction, leadership, guidance, and general supervision to the principal components of OCC. The Deputy Director assists the Director in carrying out the responsibilities for the Office. The Office of the Director: (1) Provides public information services by responding to inquiries from the public and private sectors; (2) identifies areas for research, demonstration, and developmental activities; (3) conducts outreach and maintains relationships with Department officials, other Federal departments, State and Tribal and local officials, and private organizations and individuals; (4) coordinates and plans child care activities to maximize program effectiveness; and (5) manages large-scale or high profile activities involving multiple OCC areas of responsibility.

Management Operation Staff is responsible for: (1) Managing the execution of the budgets for OCC operated programs and for Federal administration of the OCC program; (2) serving as the central control point for operational and long-range planning of the needs of the OCC; (3) planning for and coordinating the provision of staff development and training; (4) providing support for OCC's personnel administration, including staffing, employee and labor relations, performance management, and employee recognition; (5) managing procurement planning and providing technical assistance regarding procurement; (6) managing OCC-controlled space, facilities, and equipment, including providing for health and safety; (7) planning for, acquiring, distributing, and controlling OCC supplies; (8) functioning as Executive Secretariat for OCC, including managing correspondence, correspondence systems, and electronic mail requests; and (9) overseeing processes related to approval and payment of travel.

B. Division of Technical Assistance (KVA1): The Division of Technical Assistance supports State, Tribal, and Territorial grantees in providing child care subsidy systems that are responsive to the needs of low-income families and support a variety of high quality child care settings that promote child development and learning. The Division of Technical Assistance: (1) Provides technical assistance to States, Territories, and Tribes concerning the administration of the Child Care and Development Fund (CCDF); (2) provides strategic leadership, coordination, and grant and contract oversight for technical assistance projects that comprise the Child Care Technical Assistance Network; (3) oversees technical assistance events, such as peer learning roundtables, forums, conferences, and webinars; (4) uses publications, multimedia tools, and comprehensive Internet resources to communicate with CCDF grantees, national, State, regional and local child care organizations, and the general public about the latest developments in the child care field; (5) works closely with State, Tribal and Territorial CCDF Lead Agencies to assess their technical assistance needs and tailor approaches that reflect State, Tribal, and Territorial flexibility; (6) supports the ability of grantees to find innovative solutions and uses its contracts, events, and publications to identify and promote replication of effective practices; (7) supports the use of research in CCDF implementation; (8) forges partnerships with public and private organizations to improve the ability of child care systems to respond effectively to the needs of low-income working families; and (9) works in partnerships across programs to improve outcomes for children by furthering the quality and coordination of early childhood services across the Federal government in order to build a diversified system that promotes school readiness across all early childhood settings and school success for school-age children. Key partners include State, Territorial and Tribal CCDF programs, Office of Head Start, the Maternal and Child Health Bureau, and the U.S. Department of Education.

C. Division of Program Operations (KVA2): The Division of Program Operations is responsible for: (1) Regional liaison activities, including communicating on a regular basis with Regional Program Unit staff, including oversight of the review and approval process for the Biennial CCDF Plans of States, Territories, and Tribes, responding to questions on policy and other issues by consulting or referring to other staff; (2) tracking progress of grantee programs in coordination with the regions; (3) collecting and maintaining information related to grantee program implementation, management and accountability measures, and technical assistance efforts; (4) tracking program achievements, problems, and gaps; (5) identifying latest trends and activities of major significance; (6) preparing background material, fact sheets, and reports to provide information to the Director and other ACF and HHS officials, grantees, and the general public; (7) tracking and supporting special initiatives; (8) establishing partnerships with public and private entities to improve access to quality child care; (9) coordinating program activities with other government and non-governmental agencies; and (10) managing and overseeing cooperative ventures with other entities.

D. Division of Policy (KVA3): The Division of Policy: (1) Develops, interprets, and issues national policies and regulations governing CCDF programs and other OCC-operated programs; (2) provides clarification of the statutes, regulations, and policies; (3) issues program instructions and information memoranda; (4) recommends and drafts legislative and budgetary proposals and materials; (5) prepares Congressional reports and briefing materials for hearings and testimony; (6) develops and tracks performance measures to ensure the responsiveness of the program to children and families; (7) manages processes related to administrative data reporting by grantees, including providing direction and guidance; (8) compiles, analyzes, and disseminates program data; (9) reviews and gives guidance to the Regional Program Units on CCDF plans and applications (10) researches child care policy issues; (11) coordinates policies and procedures with the Division of Program Operations (including updates of the Biennial Child Care Plan Preprint) and other Federal agencies; (12) provides policy training, guidance, and clarification to the Regional Program Units in carrying out policy functions; (13) coordinates with the grants office on financial management issues, including grantee allocations and expenditure reporting.

E. Office of Child Care Regional Program Units (KVADI-X): Each OCC Regional Program Unit is headed by an OCC Regional Program Manager who reports to the Deputy Director, OCC. The Regional Program Manager, through subordinate regional staff, in collaboration with program components, is responsible for: (1) Providing program and technical administration of OCC block and discretionary programs; (2) collaborating with the OCC Central Office, States, and other grantees on all significant policy matters; (3) providing technical assistance to entities responsible for administering OCC programs to resolve identified problems; (4) ensuring that appropriate procedures and practices are adopted; (5) working with appropriate State, Tribal, and local officials to develop and implement outcome-based performance goals that further the OCC mission of supporting children and families by increasing access to affordable, high quality child care; and (6) monitoring the programs to ensure their efficiency and effectiveness, and ensuring that these entities conform to Federal laws, regulations, policies, and procedures governing the programs.

V. Continuation of Policy: Except as inconsistent with this reorganization, all statements of policy and interpretations with respect to organizational components affected by this Notice within the Administration for Children and Families, heretofore issued and in effect on this date of this reorganization are continued in full force and effect.

VI. Delegation of Authority: All delegations and redelegations of authority made to the officials and employees of affected organizational components will continue in them or their successors pending further redelegations, provided they are consistent with this reorganization.

VII. Funds, Personnel and Equipment: Transfer of organizations and functions affected by the reorganization shall be accompanied in each instance by direct and support funds, positions, personnel, records, equipment, supplies and other resources.

This reorganization will be effective upon date of signature.

Dated: September 24, 2010.
David A. Hansell,
Acting Assistant Secretary for Children and Families.

[FR Doc. 2010-24587 Filed 9-29-10; 8:45 am]

BILLING CODE P